DEPARTMENT OF COMMERCE

National Oceanic and Atmospheric Administration

RIN 0648-XC848

Fisheries of the Exclusive Economic Zone Off Alaska; American Fisheries Act, Amendment 80 Program, Western Alaska Community Development Quota Program, Freezer Longline Cooperative; Public Workshop

AGENCY: National Marine Fisheries Service (NMFS), National Oceanic and Atmospheric Administration (NOAA), Commerce.

ACTION: Notice of public workshop.

SUMMARY: NMFS announces a workshop to solicit input from participants in the pollock fishery in the Bering Sea authorized under the American Fisheries Act (AFA), the Aleutian Islands pollock fishery, the Amendment 80 trawl fisheries in the Bering Sea and Aleutian Islands, the Western Alaska Community Development Quota (CDQ) Program, and the hook-and-line catcher/processor (freezer longline) Pacific cod fishery in the Bering Sea and Aleutian Islands. The workshop will address: (1) The applicability of cost recovery fees mandated under section 304(d)(2) of the Magnuson-Stevens Fishery Conservation and Management Act (Magnuson-Stevens Act) to the AFA, Aleutian Islands pollock fishery, Amendment 80 Program, CDQ Program, and the freezer longline Pacific cod fishery in the Bering Sea and Aleutian Islands; (2) an overview of the potential impacts of cost recovery programs; and (3) an overview of proposed regulatory approaches to implement cost recovery programs. The meeting is open to the public, but NMFS is particularly seeking participation by people who are knowledgeable about the AFA, Aleutian Islands pollock fishery, Amendment 80, CDQ Program, and the freezer longline Pacific cod fishery in the Bering Sea and Aleutian Islands and who can discuss with NMFS the potential impacts of cost recovery programs and proposed regulatory approaches.

DATES: The workshop will be held on Friday, September 20, 2013, from 9 a.m. to 12 p.m. Pacific daylight savings time.

ADDRESSES: The workshop will be held at the Nordby Conference Center, 3919 18th Avenue, Fishermen's Terminal, Seattle, WA 98199.

FOR FURTHER INFORMATION CONTACT: Darrell Brannan, 352-562-4388, or Glenn Merrill, 907-586-7228.

SUPPLEMENTARY INFORMATION: The meeting will address several issues regarding the proposed cost recovery fee that are of interest to stakeholders and will provide an opportunity for those individuals to comment. Issues to be addressed include:

• Why the cost recovery fee would be implemented and under what authority;

• Why these fisheries would be included in the proposed program and not others;

• How costs would be determined, how they would be used, and what they are estimated to be, given current information;

• What landings would be subject to a cost recovery fee;

• How the standard ex-vessel price would be determined for each species subject to the fee;

• Who would be responsible for payment of the fee liability;

• The timeframe for implementation; and

• The role of the North Pacific Fishery Management Council (Council) in this process.

NMFS plans to present a draft analysis of the potential effects of cost recovery fee programs to the Council at its meeting scheduled from September 30 through October 8 in Anchorage, AK. The workshop will provide stakeholders information before the Council meeting so that they have the opportunity to present any concerns to the Council and NMFS. Input from the public received at these workshops and the Council will help inform NMFS as it prepares proposed regulations pursuant to section 305(d) of the Magnuson-Stevens Act.

This meeting is open to the public, but NMFS is particularly seeking participation by people who are knowledgeable about the AFA, Aleutian Islands pollock fishery, Amendment 80 Program, CDQ Program, and the freezer longline Pacific cod fishery in the Bering Sea and Aleutian Islands.

Special Accommodations

The meeting will be physically accessible to people with disabilities. Requests for sign language interpretation or other auxiliary aids should be directed to Glenn Merrill, 907-586-7228, at least 10 workdays prior to the meeting date.

Authority: 16 U.S.C. 1801 et seq.

Dated: August 30, 2013.
Kelly Denit,
Acting Deputy Director, Office of Sustainable Fisheries, National Marine Fisheries Service.

[FR Doc. 2013-21617 Filed 9-4-13; 8:45 am]

BILLING CODE 3510-22-P